Title 3—

The President

Presidential Determination No. 2003-40 of September 24, 2003

Waiving Prohibition on United States Military Assistance to Parties to the Rome Statute Establishing the International Criminal Court

Memorandum for the Secretary of State

Consistent with the authority vested in me by section 2007 of the American Servicemembers' Protection Act of 2002, title II of Public Law 107-206 (22 U.S.C. 7421 et seq.), I hereby determine that:

(1) Afghanistan, Democratic Republic of the Congo, Georgia, and Honduras have each entered into an agreement with the United States pursuant to Article 98 of the Rome Statute preventing the International Criminal Court from proceeding against U.S. personnel present in such countries, and waive the prohibition of section 2007(a) of the American Servicemembers' Protection Act with respect to these countries for as long as such agreement remains in force; and

(2) it is important to the national security interest of the United States to waive, for a period of 6 months from the date of this determination, the prohibition of section 2007(a) with respect to Guinea, and waive that prohibition with respect to this country for that period.

You are authorized and directed to report this determination to the Congress, and to arrange for its publication in the Federal Register.

B

THE WHITE HOUSE,

Washington, September 24, 2003.

[FR Doc. 03-25285

Filed 10-2-03; 8:45 am]

Billing code 4710-10-P